DEPARTMENT OF HOMELAND SECURITY

Federal Emergency Management Agency

[Docket ID: FEMA-2010-0044; OMB No. 1660-0016]

Agency Information Collection Activities: Proposed Collection; Comment Request; Revision to National Flood Insurance Program Maps: Application Forms for LOMRs and CLOMRs

AGENCY: Federal Emergency Management Agency, DHS.

ACTION: Notice; 60-day notice and request for comments; revision of a currently approved information collection; OMB No. 1660-0016; FEMA Form 086-0-27, Overview and Concurrence Form; FEMA Form 086-0-27A, Riverine Hydrology and Hydraulics Form; 086-0-27B, Riverine Structures Form; 086-0-27C, Coastal Analysis Form; 086-0-27D, Coastal Structures Form; 086-0-27E, Alluvial Fan Flooding Form.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the collection of information necessary to gather the data necessary to allow the Federal Emergency Management Agency to make a determination if a revision to a flood map is warranted.

DATES: Comments must be submitted on or before September 27, 2010.

ADDRESSES: To avoid duplicate submissions to the docket, please use only one of the following means to submit comments:

(1) Online. Submit comments at http://www.regulations.gov under Docket ID FEMA-2010-0044. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include Docket ID FEMA-2010-0044 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Contact Ava Hammond, FEMA Mitigation Division and (202) 646-3276 for additional information. You may contact the Records Management Division for copies of the proposed collection of information at facsimile number (202) 646-3347 or e-mail address: FEMA-Information-Collections-Management@dhs.gov.

SUPPLEMENTARY INFORMATION: The National Flood Insurance Program (NFIP) is authorized by 42 U.S.C. 4001 et seq. (Pub. L. 90-448 (1968) and expanded by Pub. L. 93-234 (1973)). The Department of Homeland Security's Federal Emergency Management Agency (FEMA) administers the National Flood Insurance Program (NFIP) and maintains the maps that depict flood hazard information. In 44 CFR Part 65.3, communities are required to submit technical information concerning flood hazards and plans to avoid potential flood hazards when physical changes occur. In 44 CFR Part 65.4, communities are provided the right to submit technical information when inconsistencies on maps are identified. In order to revise the Base (1-percent annual chance) Flood Elevations (BFEs), Special Flood Hazard Areas (SFHAs), and floodways presented on the NFIP maps, a community must submit scientific or technical data demonstrating the need for a revision. The NFIP regulations cited in 44 CFR Part 65 outline the data that must be submitted for these requests.

Collection of Information

Title: Revision to National Flood Insurance Program Maps: Application Forms for LOMRs and CLOMRs.

Type of Information Collection: Revision of a currently approved information collection.

OMB Number: 1660-0016.

Form Titles and Numbers: FEMA Form 086-0-27, Overview and Concurrence Form; FEMA Form 086-0-27A, Riverine Hydrology and Hydraulics Form; 086-0-27B, Riverine Structures Form; 086-0-27C, Coastal Analysis Form; 086-0-27D, Coastal Structures Form; 086-0-27E, Alluvial Fan Flooding Form.

Abstract: The certification forms are designed to assist requesters in gathering information that FEMA needs to revise a National Flood Insurance Program (NFIP) map. This data is required to ensure that requested revisions are in compliance with NFIP regulations. These revisions are granted if the technical information submitted demonstrates that the prior determination of a Special Flood Hazard Area, floodway or Base Flood Elevation on a flood map is no longer valid.

Affected Public: Business or other for-profit; State, local or Tribal Government.

Estimated Total Annual Burden Hours: 17,700 Hours.

Estimated Annualized Burden Hours and Costs
Type of respondent | Form name/ Form number | Number of respondents | Number of responses per respondent | Total number of responses | Avg. burden per response (in hours) | Total annual burden (in hours) | Avg. hourly wage rate | Total annual respondent cost
Business or other for-Profit | Form 086-0-27, Overview and Concurrence Form | 1,500 | 1 | 1,500 | 0.25 | 375 | 44.39 | $16,646
State, local, or Tribal Government | Form 086-0-27, Overview and Concurrence Form | 1,500 | 1 | 1,500 | 0.25 | 375 | 53.97 | 20,239
Business or other for-profit | Form 086-0-27, Overview and Concurrence Form | 1,500 | 1 | 1,500 | 0.5 | 750 | 46.65 | 34,988
Total for FEMA Form 086-0-27 |  | 1,500 |  | 1,500 | 1 | 1,500 |  | 71,873
State, Local or Tribal Government | Form 086-0-27A, Riverine Hydrology and Hydraulics Form | 1,500 | 1 | 1,500 | 0.75 | 1,125 | 53.97 | 60,716
Business or other for-profit | Form 086-0-27A, Riverine Hydrology and Hydraulics Form | 1,500 | 1 | 1,500 | 2.75 | 4,125 | 46.65 | 192,431
Total for FEMA Form 086-0-27A |  | 1,500 |  | 1,500 | 3.5 | 5,250 |  | 253,147
Business or other for-profit | Form 086-0-27B, Riverine Structures Form | 1,500 | 1 | 1,500 | 7 | 10,500 | 46.65 | 489,825
Business or other for-profit | Form 086-0-27C, Coastal Analysis Form | 150 | 1 | 150 | 1 | 150 | 46.65 | 6,998
Business or other for-profit | Form 086-0-27D, Coastal Structures Form | 150 | 1 | 150 | 1 | 150 | 46.65 | 6,998
Business or other for-profit | Form 086-0-27E, Alluvial Fan Flooding Form | 150 | 1 | 150 | 1 | 150 | 46.65 | 6,998
Total |  | 1,500 |  | 4,950 |  | 17,700 |  | 835,839

Estimated Cost: The estimated annual operations and maintenance cost is $26,250,000. There is no annual capital start-up cost.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 16, 2010.
Tammi Hines,
Director, Records Management Division, Mission Support Bureau, Federal Emergency Management Agency, Department of Homeland Security.

[FR Doc. 2010-18330 Filed 7-26-10; 8:45 am]

BILLING CODE 9110-12-P